DEPARTMENT OF LABOR

Employment and Training Administration

[NAFTA-04495]

Johnson Electric Automotive, Inc. Brownsville, Texas Including Temporary Workers of Austin Temporary Services Employed at Johnson Electric Automotive, Inc. Brownsville, Texas; Amended Certification Regarding Eligibility To Apply for NAFTA-Transitional Adjustment Assistance

In accordance with Section 250(A), Subchapter D, Chapter 2, Title II, of the Trade Act of 1974 (19 USC 2273), the Department of Labor issued a Certification for NAFTA Transitional Adjustment Assistance on February 22, 2001, applicable to workers of Johnson Electric Automotive, Brownsville, Texas. The notice was published in the Federal Register on April 5, 2001 (66 FR 18119).

At the request of the State agency, the Department reviewed the certification for workers of the subject firm. Information provided by the State and the company shows that some employees of the subject firm were temporary workers from Austin Temporary Services, Harlingen, Texas to produce shafts of motors for lawnmowers and boats at the Brownsville, Texas location.

Based on these findings, the Department is amending the certification to include temporary workers of Austin Temporary Services, Harlingen, Texas employed at Johnson Electric Automotive, Inc., Brownsville, Texas.

The intent of the Department's certification is to include all workers of Johnson Electric Automotive, Inc., Brownsville, Texas adversely affected by a shift of production to Mexico.

The amended notice applicable to NAFTA—04495 is hereby issued as follows:

All workers of Johnson Electric Automotive, Inc., Brownsville, Texas including temporary workers of Austin Temporary Services, Harlingen, Texas who were engaged in the production of shafts of motors for lawnmowers and boats at Johnson Electric Automotive, Inc., Brownsville, Texas who became totally or partially separated from employment on or after January 26, 2000 through February 22, 2003 are eligible to apply for NAFTA-TAA under Section 250 of the Trade Act of 1974.

Signed at Washington, DC this 13th day of April, 2001.
Linda G. Poole,
Certifying Officer, Division of Trade Adjustment Assistance.

[FR Doc. 01-10948 Filed 5-1-01; 8:45 am]

BILLING CODE 4510-30-M